COMMISSION ON CIVIL RIGHTS

Sunshine Act Meeting

AGENCY: U.S. Commission on Civil Rights.

Date and Time: Friday, November 3, 2000, 9:30 a.m.

Place: U.S. Commission on Civil Rights, 624 Ninth Street, NW., Room 540, Washington, DC 20425.

Status:

Agenda

I. Approval of Agenda

II. Approval of Minutes of October 13, 2000 Meeting

III. Announcements

IV. Staff Director's Report

V. Report on Budget

VI. Police Practices Report

VII. Future Agenda Items

Contact Person for Further Information: David Aronson, Press and Communications (202) 376-8312.

Edward A. Hailes, Jr.,
Acting General Counsel.

[FR Doc. 00-27742 Filed 10-25-00; 11:48 am]

BILLING CODE 6335-01-M